DEPARTMENT OF ENERGY

Federal Energy Regulatory Commission

Combined Notice of Filings

Take notice that the Commission has received the following Natural Gas Pipeline Rate and Refund Report filings:

Filings Instituting Proceedings

Docket Numbers: RP11-1591-000.

Applicants: Golden Pass Pipeline LLC.

Description: Report Filing: 2016 Annual Report of Penalty Revenue and Costs.

Filed Date: 11/29/16.

Accession Number: 20161129-5208.

Comments Due: 5 p.m. ET 12/12/16.

Docket Numbers: RP17-196-000.

Applicants: Millennium Pipeline Company, LLC.

Description: § 4(d) Rate Filing: Out-of-Cycle RAM 2016 to be effective 1/1/2017.

Filed Date: 11/23/16.

Accession Number: 20161123-5045.

Comments Due: 5 p.m. ET 12/5/16.

Docket Numbers: RP17-197-000.

Applicants: Dominion Cove Point LNG, LP.

Description: § 4(d) Rate Filing: DCP—2016 Section 4 General Rate Case to be effective 1/1/2017.

Filed Date: 11/23/16.

Accession Number: 20161123-5060.

Comments Due: 5 p.m. ET 12/5/16.

Docket Numbers: RP17-198-000.

Applicants: Cameron Interstate Pipeline, LLC.

Description: Compliance filing Cameron Interstate Pipeline Annual Adjustment of Fuel Retainage Percentage to be effective 1/1/2017.

Filed Date: 11/23/16.

Accession Number: 20161123-5108.

Comments Due: 5 p.m. ET 12/5/16.

Docket Numbers: RP17-199-000.

Applicants: Southern Star Central Gas Pipeline, Inc.

Description: Compliance filing Annual Cash-Out Activity Report 2016.

Filed Date: 11/28/16.

Accession Number: 20161128-5075.

Comments Due: 5 p.m. ET 12/12/16.

Docket Numbers: RP17-200-000.

Applicants: Guardian Pipeline, L.L.C.

Description: § 4(d) Rate Filing: Expiration of Negotiated Rate Agreements to be effective 12/31/2016.

Filed Date: 11/28/16.

Accession Number: 20161128-5197.

Comments Due: 5 p.m. ET 12/12/16.

Docket Numbers: RP17-201-000.

Applicants: Natural Gas Pipeline Company of America.

Description: § 4(d) Rate Filing: City of Sullivan to be effective 12/1/2016.

Filed Date: 11/28/16.

Accession Number: 20161128-5199.

Comments Due: 5 p.m. ET 12/12/16.

Docket Numbers: RP17-202-000.

Applicants: Natural Gas Pipeline Company of America.

Description: § 4(d) Rate Filing: City of Bethany to be effective 12/1/2016.

Filed Date: 11/28/16.

Accession Number: 20161128-5201.

Comments Due: 5 p.m. ET 12/12/16.

Docket Numbers: RP17-203-000.

Applicants: Questar Pipeline, LLC.

Description: § 4(d) Rate Filing: Annual FGRP Report for 2017 for Questar Pipeline, LLC to be effective 1/1/2017.

Filed Date: 11/28/16.

Accession Number: 20161128-5229.

Comments Due: 5 p.m. ET 12/12/16.

Docket Numbers: RP17-204-000.

Applicants: Pine Needle LNG Company, LLC.

Description: Petition for Approval of a Negotiated Stipulation and Agreement [including Pro Forma sheets] of Pine Needle LNG Company, LLC.

Filed Date: 11/28/16.

Accession Number: 20161128-5266.

Comments Due: 5 p.m. ET 12/12/16.

Docket Numbers: RP17-205-000.

Applicants: Texas Eastern Transmission, LP.

Description: § 4(d) Rate Filing: Non-conforming Agreement—PSEG Power 400241 to be effective 12/1/2016.

Filed Date: 11/29/16.

Accession Number: 20161129-5061.

Comments Due: 5 p.m. ET 12/12/16.

Docket Numbers: RP17-206-000.

Applicants: Southern Natural Gas Company, L.L.C.

Description: § 4(d) Rate Filing: SCRM Filing Nov 2016 to be effective 1/1/2017.

Filed Date: 11/29/16.

Accession Number: 20161129-5063.

Comments Due: 5 p.m. ET 12/12/16.

Docket Numbers: RP17-207-000.

Applicants: MarkWest Pioneer, L.L.C.

Description: § 4(d) Rate Filing: Quarterly FRP Filing to be effective 1/1/2017.

Filed Date: 11/29/16.

Accession Number: 20161129-5077.

Comments Due: 5 p.m. ET 12/12/16.

Docket Numbers: RP17-208-000.

Applicants: Iroquois Gas Transmission System, L.P.

Description: § 4(d) Rate Filing: 11/29/16. Negotiated Rates—Cargill Incorporated (HUB) 3085-89 to be effective 12/1/2016.

Filed Date: 11/29/16.

Accession Number: 20161129-5118.

Comments Due: 5 p.m. ET 12/12/16.

Docket Numbers: RP17-209-000.

Applicants: El Paso Natural Gas Company, L.L.C.

Description: § 4(d) Rate Filing: Annual Fuel and L&U Filing to be effective 1/1/2017.

Filed Date: 11/29/16.

Accession Number: 20161129-5120.

Comments Due: 5 p.m. ET 12/12/16.

Docket Numbers: RP17-210-000.

Applicants: Florida Gas Transmission Company, LLC.

Description: § 4(d) Rate Filing: Exhibit B update—delete contracts, rearrange point volumes to be effective 12/1/2016.

Filed Date: 11/29/16.

Accession Number: 20161129-5154.

Comments Due: 5 p.m. ET 12/12/16.

Docket Numbers: RP17-211-000.

Applicants: El Paso Natural Gas Company, L.L.C.

Description: § 4(d) Rate Filing: Negotiated Rate Agreement Update (SRP 2016) to be effective 12/1/2016.

Filed Date: 11/29/16.

Accession Number: 20161129-5258.

Comments Due: 5 p.m. ET 12/12/16.

Docket Numbers: RP17-212-000.

Applicants: Tennessee Gas Pipeline Company, L.L.C.

Description: Compliance filing Cashout Report 2015-2016 to be effective N/A.

Filed Date: 11/29/16.

Accession Number: 20161129-5272.

Comments Due: 5 p.m. ET 12/12/16.

Docket Numbers: RP17-213-000.

Applicants: Northwest Pipeline LLC.

Description: § 4(d) Rate Filing: Leap Year Rate Removal—2016 to be effective 1/1/2017.

Filed Date: 11/29/16.

Accession Number: 20161129-5274.

Comments Due: 5 p.m. ET 12/12/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2016.
Nathaniel J. Davis, Sr.,
Deputy Secretary.

[FR Doc. 2016-29417 Filed 12-7-16; 8:45 am]

BILLING CODE 6717-01-P